FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202) 523-5793 or tradeanalysis@fmc.gov.

Agreement No.: 011523-006.

Agreement Name: WWOcean/Hoegh Autoliners Space Charter Agreement.

Parties: Wallenius Wilhelmsen Ocean AS and Hoegh Autoliners AS.

Filing Party: Wayne Rohde, Cozen O'Connor.

Synopsis: The amendment expands the scope of the agreement to cover the trades between the U.S. and all ports worldwide. It also changes the name and address of Wallenius Wilhelmsen and restates the agreement.

Proposed Effective Date: 9/2/2018.

Location: https://www2.fmc.gov/FMC.Agreements.Web/Public/AgreementHistory/850.

Agreement No.: 011261-012.

Agreement Name: ACL/WWOcean Agreement.

Parties: Atlantic Container Line AB and Wallenius Wilhelmsen Ocean AS.

Filing Party: Wayne Rohde, Cozen O'Connor.

Synopsis: The amendment changes the name of Wallenius Wilhelmsen, updates the addresses of the parties, and updates the name of the Agreement.

Proposed Effective Date: 7/19/2018.

Location: https://www2.fmc.gov/FMC.Agreements.Web/Public/AgreementHistory/1478

Dated: July 23, 2018.
Rachel E. Dickon,
Secretary.

[FR Doc. 2018-16006 Filed 7-25-18; 8:45 am]

BILLING CODE 6731-AA-P